DEPARTMENT OF COMMERCE

National Oceanic and Atmospheric Administration

50 CFR Part 635

[I.D. 072100C]

Atlantic Highly Migratory Species Fisheries; Atlantic Bluefin Tuna

AGENCY: National Marine Fisheries Service (NMFS), National Oceanic and Atmospheric Administration (NOAA), Commerce.

ACTION: Adjustment of General category daily retention limit on previously designated restricted fishing days.

SUMMARY: NMFS has determined that the Atlantic bluefin tuna (BFT) General category restricted-fishing day (RFD) schedule should be adjusted; i.e., certain RFDs should be waived, to allow for maximum utilization of the General category June-August subquota. Therefore, NMFS increases the daily retention limit from zero to one large medium or giant BFT on the following, previously designated RFDs for 2000: July 30 and 31, and August 6, 7, 13, 14, 20, 21, 27, and 28.

DATES: Effective July 26, 2000.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. General category effort controls (including time-period subquotas and RFDs) are specified annually under §§ 635.23(a) and 635.27(a). The 2000 General category effort controls were implemented July 7, 2000 (65 FR 42883, July 12, 2000).

Adjustment of Daily Retention Limit for Selected Dates

Under § 635.23 (a)(4), NMFS may increase or decrease the daily retention limit of large medium and giant BFT over a range from zero (on RFDs) to a maximum of three per vessel to allow for maximum utilization of the quota for BFT. Based on a review of dealer reports, daily landing trends, and the availability of BFT on the fishing grounds, NMFS has determined that adjustment to the RFD schedule is necessary to allow for full use of the subquota while ensuring an August fishery. Therefore, NMFS adjusts the daily retention limit for July 30 and 31, and August 6, 7, 13, 14, 20, 21, 27, and 28, 2000, previously identified as RFDs to one large medium or giant BFT per vessel. NMFS has selected these days in order to give adequate advanced notice to fishery participants and NMFS enforcement.

The intent of this adjustment is to allow for maximum utilization of the June-August subquota (specified under § 635.27(a)) by General category participants in order to help achieve optimum yield in the General category fishery, to collect a broad range of data for stock monitoring purposes, and to be consistent with the objectives of the HMS FMP.

While catch rates have been low so far this season, NMFS recognizes that they may increase. In addition, due to the temporal and geographical nature of the fishery, certain gear types and areas are more productive at various times during the fishery. In order to ensure that the June-August subquota is not filled prematurely and to ensure equitable fishing opportunities in all areas and for all gear types, NMFS has not waived all of the RFDs in August. The remaining previously scheduled RFDs (which have not been waived) correspond to market closures in Japan and may promote better ex-vessel prices.

Classification

This action is taken under § 635.23(a)(4) and is exempt from review under E.O. 12866.

Authority: 16 U.S.C. 971 et seq. and 1801 et seq.

Dated: July 26, 2000.
Richard W. Surdi,
Acting Director, Office of Sustainable Fisheries, National Marine Fisheries Service.

[FR Doc. 00-19287 Filed 7-26-00; 4:06 pm]

BILLING CODE 3510-22-F